Executive Order 13242 of December 18, 2001

Providing an Order of Succession Within the Department of Commerce

By the authority vested in me as President by the Constitution and the laws of the United States of America, including Subchapter III of Chapter 33 of title 5 of the United States Code, it is hereby ordered that:

Section 1. Subject to the provisions of section 3 of this Executive Order, the officers named in section 2, in the order listed, shall act as and perform the functions and duties of the office of Secretary of Commerce (Secretary) during any period when both the Secretary and the Deputy Secretary of Commerce (Deputy Secretary) have died, resigned, or are otherwise unable to perform the functions and duties of the office of Secretary.

Sec. 2. Order of Succession.

(a) General Counsel of the Department of Commerce;

(b) Under Secretary of Commerce for International Trade;

(c) Under Secretary of Commerce for Economic Affairs;

(d) Under Secretary of Commerce for Oceans and Atmosphere and Administrator of the National Oceanic and Atmospheric Administration;

(e) Under Secretary of Commerce for Technology;

(f) Under Secretary of Commerce for Export Administration;

(g) Chief Financial Officer of the Department of Commerce and Assistant Secretary of Commerce in charge of Administration; and

(h) Assistant Secretary of Commerce in charge of Legislative and Intergovernmental Affairs.

Sec. 3. Exceptions.

(a) No individual who is serving in an office listed in section 2(a)-(h) in an acting capacity shall act as Secretary pursuant to this Executive Order.

(b) Notwithstanding the provisions of this Executive Order, the President retains discretion, to the extent permitted by Subchapter III of Chapter 33 of title 5 of the United States Code, to depart from this Executive Order in designating an acting Secretary.

Sec. 4. Executive Order 11880 of October 2, 1975, Executive Order 12998 of April 5, 1996, and section 26 of Executive Order 12608 of September 9, 1987, are hereby revoked.

B

THE WHITE HOUSE,

December 18, 2001.

[FR Doc. 01-31667

Filed 12-20-01; 8:45 am]

Billing code 3195-01-P